DEPARTMENT OF LABOR

Employee Benefits Security Administration

Advisory Council on Employee Welfare and Pension Benefit Plans; Working Group on Phased Retirement; Notice of Meeting

Pursuant to the authority contained in Section 512 of the Employee Retirement Income Security Act of 1974 (ERISA), 29 U.S.C. 1142, the Working Group assigned by the Advisory Council on Employee Welfare and Pension Benefit Plans to study the issue of phased retirement will hold an open public meeting on July 17, 2008.

The session will take place in C5515, Room 4, U.S. Department of Labor, 200 Constitution Avenue, NW., Washington, DC 20210. The purpose of the open meeting, which will run from 9 a.m. to approximately 5 p.m., with a one hour break for lunch, is for Working Group members to hear testimony from invited witnesses. The Working Group will study the issues facing employers who wish to create phased retirement plans as well as the issues facing employees who wish to take part in phased retirement programs, and whether there are any legal impediments that discourage American workers from continuing to work in their retirement years.

Organizations or members of the public wishing to submit a written statement pertaining to the topic may do so by submitting 25 copies on or before July 9, 2008 to Larry Good, Executive Secretary, ERISA Advisory Council, U.S. Department of Labor, Suite N-5623, 200 Constitution Avenue, NW., Washington, DC 20210. Statements also may be submitted electronically to good.larry@dol.gov. Statements received on or before July 9 will be included in the record of the meeting. Individuals or representatives of organizations wishing to address the Working Group should forward their requests to the Executive Secretary or telephone (202) 693-8668. Oral presentations will be limited to 20 minutes, time permitting, but an extended statement may be submitted for the record. Individuals with disabilities, who need special accommodations, should contact Larry Good by July 9 at the address indicated. All individuals who plan to attend the meeting should contact Larry Good by July 14 to expedite building access.

Signed at Washington, DC this 24th day of June, 2008.
Bradford P. Campbell,
Assistant Secretary, Employee Benefits Security Administration.

[FR Doc. E8-14701 Filed 6-27-08; 8:45 am]

BILLING CODE 4510-29-P